DEPARTMENT OF DEFENSE

Office of the Secretary

Federal Advisory Committee; Army National Cemeteries Advisory Commission

AGENCY: Department of Defense (DoD).

ACTION: Establishment of Federal advisory committee.

SUMMARY: Under the provisions of the Federal Advisory Committee Act of 1972, (5 U.S.C. Appendix), the Government in the Sunshine Act of 1976 (5 U.S.C. 552b), and 41 CFR 102-3.50, the Department of Defense gives notice that it is establishing the charter for the Army National Cemeteries Advisory Commission (hereafter referred to as “the Commission”).

FOR FURTHER INFORMATION CONTACT: Jim Freeman, Deputy Committee Management Officer for the Department of Defense, 703-601-6128.

SUPPLEMENTARY INFORMATION: The Commission is a discretionary Federal advisory committee established to provide the Secretary of Defense, through the Under Secretary of the Army, independent advice and recommendations on the Army National Cemeteries Program, including, but not limited to:

a. Management and operational issues, including bereavement practices;

b. Plans and strategies for addressing long-term governance challenges;

c. Resource planning and allocation; and

d. Any other matters relating to Army National Cemeteries that the Commission's co-chairs, in consultation with the Secretary of the Army, may decide to consider.

The Commission shall be comprised of no more than nine members, who are preeminent authorities in their respective fields of interest or expertise, including:

a. One member nominated by the Secretary of Veterans Affairs;

b. One member nominated by the Secretary of the American Battle Monuments Commission; and

c. No more than 7 members nominated by the Secretary of the Army.

The commission members shall be appointed by the Secretary of Defense, and those members, who are not full-time or permanent part-time Federal officers or employees, shall be appointed as experts and consultants under the authority of 5 U.S.C. 3109 and shall serve as special government employees.

Members may serve two-year terms of service on the Commission; however Members who are appointed under the authority of 5 U.S.C. 3109 are subject to renewal on an annual basis by the Secretary of Defense. Unless otherwise authorized by the Secretary of Defense, no member shall serve more than 6 years on the Commission.

With the exception of travel and per diem for official travel, Commission members appointed as special government employees shall serve without compensation.

With DoD approval, the Commission is authorized to establish subcommittees, as necessary and consistent with its mission. These subcommittees or working groups shall operate under the provisions of the Federal Advisory Committee Act of 1972, the Government in the Sunshine Act of 1978 (5 U.S.C. 552b), and other appropriate Federal regulations.

Such subcommittees or workgroups shall not work independently of the chartered Commission, and shall report all their recommendation and advice to the Commission for full deliberation and discussion. Subcommittees or workgroups have no authority to make decisions on behalf of the chartered Commission; nor can they report directly to the Department of Defense or any Federal officers or employees who are no Commission members.

The Commission shall meet at the call of the Designated Federal Officer, in consultation with the co-chairs. The estimated number of Commission meetings is four per year.

The Designated Federal Officer, pursuant to DoD policy, shall be a full-time or permanent part-time DoD employee, and shall be appointed in accordance with established DoD policies and procedures.

In addition, the Designated Federal Officer is required to be in attendance at all meetings, however, in the absence of the Designated Federal Officer, the Alternate Designated Federal Officer shall attend the meeting.

Pursuant to 41 CFR 102-3.105(j) and 102-3.140, the public or interested organizations may submit written statements to the Army National Cemeteries Advisory Commission membership about the Commission's mission and functions. Written statements may be submitted at any time or in response to the stated agenda of planned meeting of the Army National Cemeteries Advisory Commission.

All written statements shall be submitted to the Designated Federal Officer for the Army National Cemeteries Advisory Commission, and this individual will ensure that the written statements are provided to the membership for their consideration. Contact information for the Army National Cemeteries Advisory Commission Designated Federal Officer can be obtained from the GSA's FACA Database— https://www.fido.gov/facadatabase/public.asp.

The Designated Federal Officer, pursuant to 41 CFR 102-3.150, will announce planned meetings of the Army National Cemeteries Advisory Commission. The Designated Federal Officer, at that time, may provide additional guidance on the submission of written statements that are in response to the stated agenda for the planned meeting in question.

Dated: September 22, 2010.
Mitchell S. Bryman,
Alternate OSD Federal Register Liaison Officer, Department of Defense.

[FR Doc. 2010-24166 Filed 9-24-10; 8:45 am]

BILLING CODE 5001-06-P